DEPARTMENT OF THE INTERIOR

Bureau of Land Management

[LLAZ920000 18X L51010000.ER0000 LVRWA18A3240]

Notice of Availability for the Draft Environmental Impact Statement for the Proposed Ten West Link 500-Kilovolt Transmission Line Project and Draft Amendments to the Yuma Field Office Resource Management Plan and the California Desert Conservation Area Plan; Maricopa and La Paz Counties, Arizona, and Riverside County, California

AGENCY: Bureau of Land Management, Interior.

ACTION: Notice of availability.

SUMMARY: In compliance with the National Environmental Policy Act of 1969 (NEPA), as amended, and the Federal Land Policy and Management Act of 1976 (FLPMA), as amended, the Bureau of Land Management (BLM), Arizona State Office, Phoenix, Arizona, has prepared a Draft Environmental Impact Statement (EIS) for the proposed Ten West Link 500-kilovolt (kV) Transmission Line Project (Project) and Draft Resource Management Plan (RMP) Amendments to the Yuma Field Office RMP and the California Desert Conservation Area Plan. By this notice, the BLM is announcing the opening of the public comment period on the Draft EIS/Draft RMP Amendments.

DATES: To ensure that comments will be considered, the BLM must receive written comments on the Draft EIS and Draft RMP Amendments within 90 days following the date the Environmental Protection Agency publishes its Notice of Availability in the Federal Register. The date(s) and location(s) of public meetings will be announced at least 15 days in advance through local media, newspapers, and the BLM website at: http://www.blm.gov/az/st/en.html.

ADDRESSES: You may submit comments related to the Project by any of the following methods:

• Website: http://www.blm.gov/az/st/en.html.

• Email: TenWestLink@blm.gov.

• Fax: 602-417-9452.

• Mail: BLM, Arizona State Office, Attention: Lane Cowger/Ten West Link Project, One North Central Avenue, Suite 800, Phoenix, AZ 85004.

Copies of the Draft EIS/Draft RMP Amendments are available at the BLM's eplanning website: https://go.usa.gov/xU6Be. Hardcopies of the documents can be reviewed at the BLM Arizona State Office, at the address above, and at the locations listed in the SUPPLEMENTARY INFORMATION section.

FOR FURTHER INFORMATION CONTACT: Lane Cowger, Project Manager, telephone: 602-417-9612; address: BLM, Arizona State Office, One North Central Avenue, Suite 800, Phoenix, AZ 85004; email: lcowger@blm.gov. Contact Lane Cowger to add your name to our mailing list. People who use a telecommunications device for the deaf (TDD) may call the Federal Relay Service (FRS) at 800-877-8339 during normal business hours to contact the BLM Project Manager listed above. The FRS is available 24 hours a day, 7 days a week, to leave a message or question for the above individual. You will receive a reply during normal business hours.

SUPPLEMENTARY INFORMATION: DCR Transmission, LLC, has filed a right-of-way (ROW) application with the BLM pursuant to Title V of FLPMA, proposing to construct, operate, maintain, and decommission a single-circuit alternating current 500-kV overhead transmission line. The Project would provide a connection between the existing Delaney Substation in Tonopah, Arizona, and the existing Colorado River Substation in Blythe, California. The project purpose is to strengthen the electrical grid and improve reliability.

DCR Transmission has filed an application for a Certificate of Public Convenience and Necessity (CPCN) with the California Public Utilities Commission (CPUC) to site the transmission infrastructure in California. The CPUC approval or denial of the CPCN application is a discretionary decision. Under California law, the CPUC would be required to comply with the California Environmental Quality Act (CEQA) before issuing the CPCN. The CPUC is currently a cooperating agency in the BLM's NEPA analysis. Pursuant to the California Code of Regulations Title 14 Section 15121, the CPUC will rely upon this EIS to comply with CEQA.

An interdisciplinary approach was used to develop the Draft EIS. The issues addressed in the Draft EIS that shaped the Project's scope and alternatives include, but are not limited to: Air and climate, biological resources, cultural resources, CEQA, health and safety, noise, land use (including farmlands and military operations), recreation, socioeconomics and environmental justice, special designations, wilderness and wilderness characteristics, trails, visual resources, and transportation.

Based on feedback from cooperating agencies, stakeholders, and public scoping, the BLM developed and analyzed a suite of alternatives, which are detailed in the Draft EIS. The BLM has identified Alternative 2: BLM Utility Corridor Route, with minor route modifications near the Town of Quartzsite, Arizona, as the Agency-Preferred Alternative route for the proposed transmission line. This route is 124.9 miles long and primarily located within existing BLM utility corridors or parallel to existing infrastructure. This route is responsive to stakeholder input, by minimizing impacts to the Yuma Proving Ground, avoiding the Kofa National Wildlife Refuge, Johnson Canyon, the Colorado River Indian Tribes Reservation, the Long Term Visitor Area (recreation area), and the Ehrenberg Sandbowl area; avoiding residential and other development south of the City of Blythe and minimize use of private land in California; avoiding an area of dense cultural resources south of the City of Blythe; and crossing a majority of Visual Resource Management (VRM) Class III land. This route also provides interconnections for potential future energy development opportunities in Arizona.

The Agency-Preferred Alternative would require an amendment to the Yuma RMP to: (1) Designate approximately 13.5 miles of 200-foot wide ROW on public lands managed by the BLM outside of designated utility corridors; and (2) Change the existing VRM Class designations from Class III to Class IV within 0.3-mile either side of centerline of 18.4 miles, for a total of 6,803.2 acres. The Agency-Preferred Alternative would also require an amendment to the California Desert Conservation Area Plan to authorize construction within 0.25-mile of occurrences of Harwood's eriastrum, a BLM special status plant species.

Hardcopies of the documents can be reviewed at the Arizona State Office (see ADDRESSES) and at the following locations:

BLM, Palm Springs South Coast Field Office

1201 Bird Center Drive, Palm Springs, CA 92262

BLM, Yuma Field Office

7341 East 30th Street, Yuma, AZ 85365

Parker Public Library

1001 South Navajo Avenue, Parker, AZ 85344

Palm Springs Public Library

300 South Sunrise Way, Palm Springs, CA 92262

Palo Verde Valley District Library

125 West Chanslor Way, Blythe, CA 92225

Quartzsite Public Library

465 North Plymouth, Quartzsite, AZ 85346

Buckeye Public Library—Downtown

310 North 6th Street, Buckeye, AZ 85326

The BLM will use the NEPA public participation requirements to assist the agency in satisfying the public-involvement requirements under Section 106 of the National Historic Preservation Act (NHPA) (54 U.S.C. 306108) pursuant to 36 CFR 800.2(d)(3).

The information about historic and cultural resources within the area potentially affected by the Project will assist the BLM in identifying and evaluating impacts to such resources in the context of both the NEPA and Section 106 of the NHPA.

The BLM will continue consultation with Indian tribes on a government-to-government basis in accordance with Executive Order 13175 and other policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

Authority: 40 CFR 1506.6(b) and 43 CFR 1610.2.

Raymond Suazo,
Arizona State Director.

[FR Doc. 2018-18721 Filed 8-30-18; 8:45 am]

BILLING CODE 4310-32-P